Proclamation 10162 of March 24, 2021

National Equal Pay Day, 2021

By the President of the United States of America

A Proclamation

Equal Pay Day is a reminder of the work that still remains to advance equity and ensure that all Americans have the opportunity to reach their full potential. This day is a symbolic representation of how far into this year women must work to catch up to what men made in the previous year. Women working full-time, year-round are typically paid just 82 cents for every dollar paid to men. It is a day that calls us to action—to renew our commitment to the principles of equity and equal opportunity that define who we are as Americans.

Women lose thousands of dollars each year, and hundreds of thousands over a lifetime, because of the gender and racial wage gap. In 2019, the typical woman who worked full time took home just 82 percent of the typical man's pay. The disparities are even greater for Black, Native American, and Hispanic women, who earned 63 percent, 60 percent, and 55 percent of white men's wages, respectively. While Asian American women make 87 percent of what white men make, the gap for Asian women varies significantly depending on subpopulation, with some Asian women—for example, Cambodian and Vietnamese women—earning among the lowest wages. Those gaps mean we will not be marking Latinas' Equal Pay Day until October—because it takes that long for the average Latina to earn what the average white man made in the previous year. Since the COVID-19 pandemic began, we have seen women, particularly women of color, disproportionately working on the frontlines, caring for our loved ones, and working to combat the virus—but they continue to earn less than their male counterparts.

The Biden-Harris Administration believes that ensuring equal pay is essential to advancing America's values of fairness and equity as well as our economic strength here at home and our competitiveness abroad. The burdens and job losses women sustained this year have erased more than 30 years of progress they have made in the labor force. Due in large part to the impact of the pandemic, there are 4.2 million fewer women working now than there were in February 2020—and millions more women have had to reduce their hours, often in response to caregiving demands that we know fall disproportionately on women. America's economic recovery depends on us addressing the barriers that have hampered women from fully participating in the labor force, resulting in gender income and wealth gaps that have been magnified and exacerbated by COVID-19.

We must begin by passing the Paycheck Fairness Act, which will take important steps towards the goal of ending pay discrimination. For instance, it will ban employers from seeking salary history—removing a common false justification for under-paying women and people of color—and it will hold employers accountable who engage in systemic discrimination. The bill will also work to ensure transparency and reporting of disparities in wages, because the problem will never be fixed if workers are kept in the dark about the fact that they are not being paid fairly. Relying on individuals to uncover unfair pay practices on their own will not get the job done; when pay data is available, workers can better advocate for fair pay and employers can fix inequities.

We must also provide paid family and medical leave, make schedules more predictable and childcare more affordable, and build pipelines for training that enable women to access higher-paying jobs. This commitment also means increasing pay for childcare workers, preschool teachers, home health aides, and others in the care economy—and taking additional steps to increase wages for American workers, such as raising the minimum wage and empowering workers to organize and collectively bargain, both of which are important to reducing the wage gap for women.

Vice President Harris and I are committed to building back better: for low-wage workers, for working families, and for all women. There is still significant work to be done to make sure our daughters receive the same rights and opportunities as our sons, and that work is critical to ensuring that every American is given a fair shot to get ahead in this country. Today, on Equal Pay Day, we recognize the role that equal pay plays in building back better for everyone.

NOW, THEREFORE, I, JOSEPH R. BIDEN JR., President of the United States of America, by virtue of the authority vested in me by the Constitution and the laws of the United States, do hereby proclaim March 24, 2021, as National Equal Pay Day. I call upon all Americans to recognize the full value of women's skills and their significant contributions to the labor force, acknowledge the injustice of wage inequality, and join efforts to achieve equal pay.

IN WITNESS WHEREOF, I have hereunto set my hand this twenty-fourth day of March, in the year of our Lord two thousand twenty-one, and of the Independence of the United States of America the two hundred and forty-fifth.

[FR Doc. 2021-06538

Filed 3-26-21; 8:45 am]

Billing code 3295-F1-P